DEPARTMENT OF HOMELAND SECURITY

Federal Emergency Management Agency

[Docket ID: FEMA-2009-0001]

Agency Information Collection Activities: Proposed Collection; Comment Request

AGENCY: Federal Emergency Management Agency, DHS.

ACTION: Notice; 60-day notice and request for comments; revision of a currently approved information collection; OMB No. 1660-0095; No Form.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the process for the appeal of decisions of flood insurance claims issued through the National Flood Insurance Program (NFIP). The appeal process establishes a formal mechanism to allow policyholders to appeal the decisions of any insurance agent, adjuster, insurance company, or any FEMA employee or contractor, in cases or unsatisfactory decisions on claims, proof of loss, and loss estimates.

DATES: Comments must be submitted on or before September 21, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Donald Waters, Insurance Examiner, FEMA Mitigation, Risk Insurance Division, Claims and Appeals, 202-212-4725 for additional information. You may contact the Records Management Branch for copies of the proposed collection of information at facsimile number (202) 646-3347 or e-mail address: FEMA-Information-Collections@dhs.gov.

SUPPLEMENTARY INFORMATION: Section 205 of The Bunning-Bereuter-Blumenauer Flood Insurance Reform Act (FIRA) of 2004, Public Law 108-264, [insert title number] U.S.C. 4102A, requires the Federal Emergency Management Agency (FEMA) to establish by regulation an additional process for the appeal of decisions of flood insurance claims issued through the National Flood Insurance Program (NFIP). Consequently, FEMA issued an interim final rule codifying into regulation what was previously an existing informal process to handle appeals regarding decisions related to coverage or claims under the NFIP.

Collection of Information

Title: National Flood Insurance Program Claims Appeal Process.

Type of Information Collection: Revision of a currently approved information collection.

OMB Number: 1660-0095.

Form Titles and Numbers: No Form.

Abstract: The Bunning-Blumenauer Flood Insurance Act of 2004 requires that FEMA establish an appeals process to allow respondents to request a review of an unsatisfactory decision on flood claims.

Affected Public: Individuals or households; Business or other for profit.

Estimated Total Annual Burden Hours: 1,800 Hours.

Table A.12—Estimated Annualized Burden Hours and Costs
Type of respondent | Form name/form number | Number of respondents | Number of responses per respondent | Average burden per response (in hours) | Total annual burden (in hours) | Average hourly wage rate * | Total annual respondent cost
Individuals and Households | Appeals Letters/No Forms | 900 | 1 | 2 | 1,800 | $28.45 | $51,210
Total |  | 900 |  |  | 1,800 |  | 51,210

Estimated Cost: There are no operation or maintenance costs associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Tammi Hines,
Acting Director, Records Management Division, Office of Management, Federal Emergency Management Agency, Department of Homeland Security.

[FR Doc. E9-17316 Filed 7-21-09; 8:45 am]

BILLING CODE 9111-52-P